DEPARTMENT OF DEFENSE

Department of the Navy

Notice of Intent To Grant Exclusive Patent License; Nanoarmor, LLC

AGENCY: Department of the Navy, DoD.

ACTION: Notice of intent to grant license.

SUMMARY: The Department of the Navy hereby gives notice of its intent to grant to Nanoarmor, LLC a revocable, nonassignable, exclusive license to practice the Government-Owned invention described in U.S. Patent Application No. 11/157,751 (Navy Case No. 97280; U.S. Patent No. 8,220,378 titled “Composite Armor Panel and Method of Manufacturing Same”; and any continuations, divisionals, or re-issues thereof.

DATES: Anyone wishing to object to the grant of this license has fifteen (15) days from the publication date of this notice to file written objections along with supporting evidence, if any.

ADDRESSES: Written objections are to be filed with the Naval Surface Warfare Center, Dahlgren Division, Technology Transfer Office of Research and Technology Applications (ORTA), Code 00T, Attention: Melody Ryan, 6149 Welsh Road, Suite 203, Bldg. 180, Rm. 253, Dahlgren, Virginia 22448-5130. File an electronic copy of objections with melody.ryan@navy.mil.

FOR FURTHER INFORMATION CONTACT: Melody Ryan, 540-653-1417, melody.ryan@navy.mil.

(Authority: 35 U.S.C. 209(e); 37 CFR 404.7)

Dated: April 4, 2019.
M.S. Werner,
Commander, Judge Advocate General's Corps, U.S. Navy, Federal Register Liaison Officer.

[FR Doc. 2019-06968 Filed 4-8-19; 8:45 am]

BILLING CODE 3810-FF-P